DEPARTMENT OF AGRICULTURE

Forest Service

Notice of Lincoln County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Kootenai National Forest's Lincoln County Resource Advisory Committee will meet on Tuesday, April 26, 2016 at 5:00 p.m. at the Forest Supervisor's Office in Libby, Montana for a business meeting. The meeting is open to the public.

DATES: April 26, 2016.

ADDRESSES: Forest Supervisor's Office, 31374 US Hwy 2, Libby, Montana.

FOR FURTHER INFORMATION CONTACT: JeriAnn Chapel, Committee Coordinator, Kootenai National Forest at (406) 283-7643, or email jchapel@fs.fed.us.

SUPPLEMENTARY INFORMATION: Agenda will include membership discussion—replacement/new, establishing committee rules, procedures and revisit project priorities, and review the status of prior projects list. If the meeting date or location is changed, notice will be posted in the local newspapers, including the Missoulian, based in Missoula, Montana.

Dated: March 28, 2016.
Christopher Savage,
Forest Supervisor.

[FR Doc. 2016-08011 Filed 4-6-16; 8:45 am]

BILLING CODE 3411-15-P